POSTAL REGULATORY COMMISSION

39 CFR Part 3020

[Docket Nos. MC2010-21 and CP2010-36]

Update to Product Lists

AGENCY: Postal Regulatory Commission.

ACTION: Final rule.

SUMMARY: The Commission is updating the product lists. This action reflects a publication policy adopted by Commission order. The referenced policy assumes periodic updates. The updates are identified in the body of this document. The product lists, which are re-published in its entirety, include these updates.

DATES: Effective date: October 19, 2017.

For applicability dates, see SUPPLEMENTARY INFORMATION.

FOR FURTHER INFORMATION CONTACT: David A. Trissell, General Counsel, at 202-789-6800.

SUPPLEMENTARY INFORMATION:

Applicability Dates

July 13, 2017, Priority Mail & First-Class Package Service Contract 47 (MC2017-154 and CP2017-218); July 17, 2017, Parcel Select Contract 22 (MC2017-155 and CP2017-219); July 19, 2017, Priority Mail Contract 332 (MC2017-156 and CP2017-220); July 20, 2017, Priority Mail Contract 333 (MC2017-157 and CP2017-221); July 20, 2017, Transferring First-Class Mail Parcels to the Competitive Product List (MC2015-7); July 24, 2017, Priority Mail Contract 334 (MC2017-158 and CP2017-222); July 31, 2017, Priority Mail Express, Priority Mail & First-Class Package Service Contract 20 (MC2017-159 and CP2017-223); August 7, 2017, Priority Mail Contract 335 (MC2017-161 and CP2017-226); August 7, 2017, Priority Mail & First Class Package Service Contract 48 (MC2017-160 and CP2017-225); August 8, 2017, Priority Mail Contract 337 (MC2017-163 and CP2017-228); August 8, 2017, Priority Mail & First-Class Package Service Contract 49 (MC2017-164 and CP2017-229); August 14, 2017, Priority Mail Contract 338 (MC2017-166 and CP2017-246); August 14, 2017, Priority Mail & First-Class Package Service Contract 50 (MC2017-165 and CP2017-245); August 15, 2017, Priority Mail Contract 336 (MC2017-162 and CP2017-227); August 17, 2017, Priority Mail Contract 339 (MC2017-167 and CP2017-260); August 17, 2017, Priority Mail Express, Priority Mail & First-Class Package Service Contract 21 (MC2017-168 and CP2017-261); August 18, 2017, Priority Mail Contract 340 (MC2017-169 and CP2017-262); August 29, 2017, Priority Mail Contract 341 (MC2017-171 and CP2017-272); August 29, 2017, First-Class Package Service Contract 78 (MC2017-172 and CP2017-273); August 29, 2017, Priority Mail & Frist-Class Package Service Contract 51 (MC2017-173 and CP2017-274); August 30, 2017, Priority Mail Express, Priority Mail & First-Class Package Service Contract 22 (MC2017-177 and CP2017-278); August 30, 2017, Priority Mail & First-Class Package Service Contract 52 (MC2017-174 and CP2017-275); August 30, 2017, Priority Mail & First-Class Package Service Contract 53 (MC2017-175 and CP2017-276); August 30, 2017, Priority Mail Contract 342 (MC2017-176 and CP2017-277); August 31, 2017, Priority Mail Contract 343 (MC2017-178 and CP2017-279); August 31, 2017, Priority Mail Contract 344 (MC2017-179 and CP2017-280); September 8, 2017, Priority Mail Contract 345 (MC2017-180 and CP2017-281); September 8, 2017, Priority Mail Contract 346 (MC2017-181 and CP2017-282); September 8, 2017, Priority Mail Contract 347 (MC2017-182 and CP2017-283); September 19, 2017, Priority Mail Contract 348 (MC2017-184 and CP2017-285); September 19, 2017, Priority Mail Contract 349 (MC2017-185 and CP2017-286); September 19, 2017, Priority Mail Contract 350 (MC2017-186 and CP2017-287); September 19, 2017, Priority Mail Contract 351 (MC2017-187 and CP2017-288); September 19, 2017, Priority Mail Contract 352 (MC2017-188 and CP2017-289); September 20, 2017, Priority Mail & First-Class Package Service Contract 54 (MC2017-192 and CP2017-293); September 20, 2017, First-Class Package Service Contract 79 (MC2017-193 and CP2017-294); September 20, 2017, Priority Mail Contract 353 (MC2017-189 and CP2017-290); September 20, 2017, Priority Mail Express Contract 50 (MC2017-190 and CP2017-291); September 20, 2017, Priority Mail Express & Priority Mail Contract 50 (MC2017-191 and CP2017-292); September 21, 2017, First-Class Package Service Contract 80 (MC2017-194 and CP2017-295); September 21, 2017, Priority Mail & First-Class Package Service Contract 55 (MC2017-195 and CP2017-296); September 21, 2017, Priority Mail Contract 354 (MC2017-196 and CP2017-297); September 21, 2017, Priority Mail Contract 355 (MC2017-197 and CP2017-298); September 21, 2017, Priority Mail & First-Class Package Service Contract 56 (MC2017-198 and CP2017-299); September 22, 2017, Priority Mail Contract 356 (MC2017-199 and CP2017-302); September 22, 2017, Priority Mail Contract 357 (MC2017-200 and CP2017-303); September 22, 2017, Priority Mail & First-Class Package Service Contract 57 (MC2017-201 and CP2017-304); September 22, 2017, Priority Mail Express & Priority Mail Contract 51 (MC2017-202 and CP2017-305); September 26, 2017, First-Class Package Service Contract 81 (MC2017-203 and CP2017-310); September 27, 2017, Global Expedited Package Services 8 (MC2017-183 and CP2017-284).

This document identifies updates to the market dominant and the competitive product lists, which appear as 39 CFR Appendix A to Subpart A of Part 3020—Market Dominant Product List and 39 CFR Appendix B to Subpart A of Part 3020—Competitive Product List, respectively. Publication of the updated product lists in the Federal Register is addressed in the Postal Accountability and Enhancement Act (PAEA) of 2006.

Authorization. The Commission process for periodic publication of updates was established in Docket Nos. MC2010-21 and CP2010-36, Order No. 445, April 22, 2010, at 8.

Changes. The product lists are being updated by publishing replacements in their entirety of 39 CFR Appendix A to Subpart A of Part 3020—Market Dominant Product List and 39 CFR Appendix B to Subpart A of Part 3020—Competitive Product List. The following products are being added, removed, or moved within the product lists:

Market Dominant Product List

1. Transferring First-Class Mail Parcels to the Competitive Product List (MC2015-7) (Order No. 4009), moved July 20, 2017.

Competitive Product List

1. Priority Mail & First-Class Package Service Contract 47 (MC2017-154 and CP2017-218) (Order No. 3998), added July 13, 2017.

2. Parcel Select Contract 22 (MC2017-155 and CP2017-219) (Order No. 4004), added July 17, 2017.

3. Priority Mail Contract 332 (MC2017-156 and CP2017-220) (Order No. 4007), added July 19, 2017.

4. Priority Mail Contract 333 (MC2017-157 and CP2017-221) (Order No. 4008), added July 20, 2017.

5. Transferring First-Class Mail Parcels to the Competitive Product List (MC2015-7) (Order No. 4009), moved July 20, 2017.

6. Priority Mail Contract 334 (MC2017-158 and CP2017-222) (Order No. 4012), added July 24, 2017.

7. Priority Mail Express, Priority Mail & First-Class Package Service Contract 20 (MC2017-159 and CP2017-223) (Order No. 4022), added July 31, 2017.

8. Priority Mail Contract 335 (MC2017-161 and CP2017-226) (Order No. 4028), added August 7, 2017.

9. Priority Mail & First-Class Package Service Contract 48 (MC2017-160 and CP2017-225) (Order No. 4029), added August 7, 2017.

10. Priority Mail Contract 337 (MC2017-163 and CP2017-228) (Order No. 4030), added August 8, 2017.

11. Priority Mail & First-Class Package Service Contract 49 (MC2017-164 and CP2017-229) (Order No. 4031), added August 8, 2017.

12. Priority Mail Contract 338 (MC2017-166 and CP2017-246) (Order No. 4037), added August 14, 2017.

13. Priority Mail & First-Class Package Service Contract 50 (MC2017-165 and CP2017-245) (Order No. 4038), added August 14, 2017.

14. Priority Mail Contract 336 (MC2017-162 and CP2017-227) (Order No. 4040), added August 15, 2017.

15. Priority Mail Contract 339 (MC2017-167 and CP2017-260) (Order No. 4050), added August 17, 2017.

16. Priority Mail Express, Priority Mail & First-Class Package Service Contract 21 (MC2017-168 and CP2017-261) (Order No. 4052), added August 17, 2017.

17. Priority Mail Contract 340 (MC2017-169 and CP2017-262) (Order No. 4054), added August 18, 2017.

18. Priority Mail Contract 341 (MC2017-171 and CP2017-272) (Order No. 4077), added August 29, 2017.

19. First-Class Package Service Contract 78 (MC2017-172 and CP2017-273) (Order No. 4078), added August 29, 2017.

20. Priority Mail & First-Class Package Service Contract 51 (MC2017-173 and CP2017-274) (Order No. 4079), added August 29, 2017.

21. Priority Mail Express, Priority Mail & First-Class Package Service Contract 22 (MC2017-177 and CP2017-278) (Order No. 4082), added August 30, 2017.

22. Priority Mail & First-Class Package Service Contract 52 (MC2017-174 and CP2017-275) (Order No. 4083), added August 30, 2017.

23. Priority Mail & First-Class Package Service Contract 53 (MC2017-175 and CP2017-276) (Order No. 4084), added August 30, 2017.

24. Priority Mail Contract 342 (MC2017-176 and CP2017-277) (Order No. 4085), added August 30, 2017.

25. Priority Mail Contract 343 (MC2017-178 and CP2017-279) (Order No. 4086), added August 31, 2017.

26. Priority Mail Contract 344 (MC2017-179 and CP2017-280) (Order No. 4087), added August 31, 2017.

27. Priority Mail Contract 345 (MC2017-180 and CP2017-281) (Order No. 4092), added September 8, 2017.

28. Priority Mail Contract 346 (MC2017-181 and CP2017-282) (Order No. 4093), added September 8, 2017.

29. Priority Mail Contract 347 (MC2017-182 and CP2017-283) (Order No. 4094), added September 8, 2017.

30. Priority Mail Contract 348 (MC2017-184 and CP2017-285) (Order No. 4098), added September 19, 2017.

31. Priority Mail Contract 349 (MC2017-185 and CP2017-286) (Order No. 4099), added September 19, 2017.

32. Priority Mail Contract 350 (MC2017-186 and CP2017-287) (Order No. 4100), added September 19, 2017.

33. Priority Mail Contract 351 (MC2017-187 and CP2017-288) (Order No. 4101), added September 19, 2017.

34. Priority Mail Contract 352 (MC2017-188 and CP2017-289) (Order No. 4102), added September 19, 2017.

35. Priority Mail & First-Class Package Service Contract 54 (MC2017-192 and CP2017-293) (Order No. 4103), added September 20, 2017.

36. First-Class Package Service Contract 79 (MC2017-193 and CP2017-294) (Order No. 4104), added September 20, 2017.

37. Priority Mail Contract 353 (MC2017-189 and CP2017-290) (Order No. 4105), added September 20, 2017.

38. Priority Mail Express Contract 50 (MC2017-190 and CP2017-291) (Order No. 4106), added September 20, 2017.

39. Priority Mail Express & Priority Mail Contract 50 (MC2017-191 and CP2017-292) (Order No. 4107), added September 20, 2017.

40. First-Class Package Service Contract 80 (MC2017-194 and CP2017-295) (Order No. 4110), added September 21, 2017.

41. Priority Mail & First-Class Package Service Contract 55 (MC2017-195 and CP2017-296) (Order No. 4111), added September 21, 2017.

42. Priority Mail Contract 354 (MC2017-196 and CP2017-297) (Order No. 4112), added September 21, 2017.

43. Priority Mail Contract 355 (MC2017-197 and CP2017-298) (Order No. 4113), added September 21, 2017.

44. Priority Mail & First-Class Package Service Contract 56 (MC2017-198 and CP2017-299) (Order No. 4114), added September 21, 2017.

45. Priority Mail Contract 356 (MC2017-199 and CP2017-302) (Order No. 4118), added September 22, 2017.

46. Priority Mail Contract 357 (MC2017-200 and CP2017-303) (Order No. 4119), added September 22, 2017.

47. Priority Mail & First-Class Package Service Contract 57 (MC2017-201 and CP2017-304) (Order No. 4120), added September 22, 2017.

48. Priority Mail Express & Priority Mail Contract 51 (MC2017-202 and CP2017-305) (Order No. 4121), added September 22, 2017.

49. First-Class Package Service Contract 81 (MC2017-203 and CP2017-310) (Order No. 4124), added September 26, 2017.

50. Global Expedited Package Services 8 (MC2017-183 and CP2017-284) (Order No. 4129), added September 27, 2017.

The following negotiated service agreements have expired, or have been terminated early, and are being deleted from the Competitive Product List:

1. Priority Mail Contract 81 (MC2014-24 and CP2014-47) (Order No. 2071).

2. Priority Mail Contract 88 (MC2014-37 and CP2014-63) (Order No. 2139).

3. Priority Mail Contract 90 (MC2014-40 and CP2014-73) (Order No. 2172).

4. Priority Mail Contract 152 (MC2016-13 and CP2016-15) (Order No. 2803).

5. First-Class Package Service Contract 36 (MC2014-32 and CP2014-57) (Order No. 2128).

Updated product list. The referenced changes to the product lists are incorporated into 39 CFR Appendix A to Subpart A of Part 3020—Market Dominant Product List and 39 CFR Appendix B to Subpart A of Part 3020—Competitive Product List.

List of Subjects in 39 CFR Part 3020

Administrative practice and procedure, Postal Service.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise appendix A of subpart A to read as follows:

Appendix A to Subpart A of Part 3020—Market Dominant Product List

(An asterisk (*) indicates an organizational class or group, not a Postal Service product.)

Part A—Market Dominant Products

1000 Market Dominant Product List

First-Class Mail *

Single-Piece Letters/Postcards

Presorted Letters/Postcards

Flats

Outbound Single-Piece First-Class Mail International

Inbound Letter Post

USPS Marketing Mail (Commercial and Nonprofit) *

High Density and Saturation Letters

High Density and Saturation Flats/Parcels

Carrier Route

Letters

Flats

Parcels

Every Door Direct Mail—Retail

Periodicals *

In-County Periodicals

Outside County Periodicals

Package Services *

Alaska Bypass Service

Bound Printed Matter Flats

Bound Printed Matter Parcels

Media Mail/Library Mail

Special Services *

Ancillary Services

International Ancillary Services

Address Management Services

Caller Service

Credit Card Authentication

International Reply Coupon Service

International Business Reply Mail Service

Money Orders

Post Office Box Service

Customized Postage

Stamp Fulfillment Services

Negotiated Service Agreements *

Domestic *

PHI Acquisitions, Inc. Negotiated Service Agreement

International *

Inbound Market Dominant Multi-Service Agreements with Foreign Postal Operators 1

Inbound Market Dominant Exprés Service Agreement 1

Inbound Market Dominant Registered Service Agreement 1

Inbound Market Dominant PRIME Tracked Service Agreement

Nonpostal Services *

Alliances with the Private Sector to Defray Cost of Key Postal Functions

Philatelic Sales

Market Test *

3. Revise appendix B of subpart A to read as follows:

Appendix B to Subpart A of Part 3020—Competitive Product List

(An asterisk (*) indicates an organizational class or group, not a Postal Service product.)

Part B—Competitive Products

2000 Competitive Product List

Domestic Products *

Priority Mail Express

Priority Mail

Parcel Select

Parcel Return Service

First-Class Package Service

USPS Retail Ground

International Products *

Outbound International Expedited Services

Inbound Parcel Post (at UPU rates)

Outbound Priority Mail International

International Priority Airmail (IPA)

International Surface Air List (ISAL)

International Direct Sacks—M-Bags

Outbound Single-Piece First-Class Package International Service

Negotiated Service Agreements *

Domestic *

Priority Mail Express Contract 16

Priority Mail Express Contract 19

Priority Mail Express Contract 20

Priority Mail Express Contract 21

Priority Mail Express Contract 23

Priority Mail Express Contract 26

Priority Mail Express Contract 27

Priority Mail Express Contract 28

Priority Mail Express Contract 29

Priority Mail Express Contract 30

Priority Mail Express Contract 31

Priority Mail Express Contract 32

Priority Mail Express Contract 34

Priority Mail Express Contract 35

Priority Mail Express Contract 36

Priority Mail Express Contract 37

Priority Mail Express Contract 38

Priority Mail Express Contract 39

Priority Mail Express Contract 40

Priority Mail Express Contract 41

Priority Mail Express Contract 42

Priority Mail Express Contract 43

Priority Mail Express Contract 44

Priority Mail Express Contract 45

Priority Mail Express Contract 46

Priority Mail Express Contract 47

Priority Mail Express Contract 48

Priority Mail Express Contract 49

Priority Mail Express Contract 50

Parcel Return Service Contract 5

Parcel Return Service Contract 6

Parcel Return Service Contract 7

Parcel Return Service Contract 8

Parcel Return Service Contract 9

Parcel Return Service Contract 10

Priority Mail Contract 77

Priority Mail Contract 78

Priority Mail Contract 80

Priority Mail Contract 82

Priority Mail Contract 85

Priority Mail Contract 87

Priority Mail Contract 92

Priority Mail Contract 93

Priority Mail Contract 94

Priority Mail Contract 95

Priority Mail Contract 96

Priority Mail Contract 98

Priority Mail Contract 99

Priority Mail Contract 104

Priority Mail Contract 106

Priority Mail Contract 107

Priority Mail Contract 110

Priority Mail Contract 111

Priority Mail Contract 113

Priority Mail Contract 115

Priority Mail Contract 117

Priority Mail Contract 119

Priority Mail Contract 121

Priority Mail Contract 123

Priority Mail Contract 125

Priority Mail Contract 126

Priority Mail Contract 127

Priority Mail Contract 130

Priority Mail Contract 131

Priority Mail Contract 132

Priority Mail Contract 133

Priority Mail Contract 134

Priority Mail Contract 136

Priority Mail Contract 137

Priority Mail Contract 138

Priority Mail Contract 140

Priority Mail Contract 141

Priority Mail Contract 144

Priority Mail Contract 145

Priority Mail Contract 146

Priority Mail Contract 148

Priority Mail Contract 149

Priority Mail Contract 150

Priority Mail Contract 153

Priority Mail Contract 154

Priority Mail Contract 155

Priority Mail Contract 156

Priority Mail Contract 157

Priority Mail Contract 158

Priority Mail Contract 159

Priority Mail Contract 160

Priority Mail Contract 161

Priority Mail Contract 163

Priority Mail Contract 164

Priority Mail Contract 166

Priority Mail Contract 167

Priority Mail Contract 168

Priority Mail Contract 169

Priority Mail Contract 170

Priority Mail Contract 171

Priority Mail Contract 172

Priority Mail Contract 174

Priority Mail Contract 175

Priority Mail Contract 176

Priority Mail Contract 177

Priority Mail Contract 178

Priority Mail Contract 179

Priority Mail Contract 180

Priority Mail Contract 181

Priority Mail Contract 185

Priority Mail Contract 186

Priority Mail Contract 188

Priority Mail Contract 189

Priority Mail Contract 190

Priority Mail Contract 191

Priority Mail Contract 192

Priority Mail Contract 193

Priority Mail Contract 194

Priority Mail Contract 195

Priority Mail Contract 196

Priority Mail Contract 197

Priority Mail Contract 198

Priority Mail Contract 199

Priority Mail Contract 200

Priority Mail Contract 201

Priority Mail Contract 202

Priority Mail Contract 203

Priority Mail Contract 204

Priority Mail Contract 205

Priority Mail Contract 206

Priority Mail Contract 207

Priority Mail Contract 208

Priority Mail Contract 209

Priority Mail Contract 210

Priority Mail Contract 211

Priority Mail Contract 212

Priority Mail Contract 213

Priority Mail Contract 215

Priority Mail Contract 216

Priority Mail Contract 217

Priority Mail Contract 218

Priority Mail Contract 219

Priority Mail Contract 220

Priority Mail Contract 221

Priority Mail Contract 222

Priority Mail Contract 223

Priority Mail Contract 224

Priority Mail Contract 225

Priority Mail Contract 226

Priority Mail Contract 227

Priority Mail Contract 229

Priority Mail Contract 230

Priority Mail Contract 231

Priority Mail Contract 232

Priority Mail Contract 233

Priority Mail Contract 234

Priority Mail Contract 235

Priority Mail Contract 236

Priority Mail Contract 237

Priority Mail Contract 238

Priority Mail Contract 239

Priority Mail Contract 240

Priority Mail Contract 241

Priority Mail Contract 242

Priority Mail Contract 243

Priority Mail Contract 244

Priority Mail Contract 245

Priority Mail Contract 246

Priority Mail Contract 247

Priority Mail Contract 248

Priority Mail Contract 249

Priority Mail Contract 250

Priority Mail Contract 251

Priority Mail Contract 252

Priority Mail Contract 253

Priority Mail Contract 254

Priority Mail Contract 255

Priority Mail Contract 256

Priority Mail Contract 257

Priority Mail Contract 258

Priority Mail Contract 259

Priority Mail Contract 260

Priority Mail Contract 261

Priority Mail Contract 262

Priority Mail Contract 263

Priority Mail Contract 264

Priority Mail Contract 265

Priority Mail Contract 266

Priority Mail Contract 267

Priority Mail Contract 268

Priority Mail Contract 269

Priority Mail Contract 270

Priority Mail Contract 271

Priority Mail Contract 272

Priority Mail Contract 273

Priority Mail Contract 274

Priority Mail Contract 275

Priority Mail Contract 276

Priority Mail Contract 277

Priority Mail Contract 278

Priority Mail Contract 279

Priority Mail Contract 280

Priority Mail Contract 281

Priority Mail Contract 282

Priority Mail Contract 283

Priority Mail Contract 284

Priority Mail Contract 285

Priority Mail Contract 286

Priority Mail Contract 287

Priority Mail Contract 288

Priority Mail Contract 289

Priority Mail Contract 290

Priority Mail Contract 291

Priority Mail Contract 292

Priority Mail Contract 293

Priority Mail Contract 294

Priority Mail Contract 295

Priority Mail Contract 296

Priority Mail Contract 297

Priority Mail Contract 298

Priority Mail Contract 299

Priority Mail Contract 300

Priority Mail Contract 301

Priority Mail Contract 302

Priority Mail Contract 303

Priority Mail Contract 304

Priority Mail Contract 305

Priority Mail Contract 306

Priority Mail Contract 307

Priority Mail Contract 308

Priority Mail Contract 309

Priority Mail Contract 310

Priority Mail Contract 311

Priority Mail Contract 312

Priority Mail Contract 313

Priority Mail Contract 314

Priority Mail Contract 315

Priority Mail Contract 316

Priority Mail Contract 317

Priority Mail Contract 318

Priority Mail Contract 319

Priority Mail Contract 320

Priority Mail Contract 321

Priority Mail Contract 322

Priority Mail Contract 323

Priority Mail Contract 324

Priority Mail Contract 325

Priority Mail Contract 326

Priority Mail Contract 327

Priority Mail Contract 328

Priority Mail Contract 329

Priority Mail Contract 330

Priority Mail Contract 331

Priority Mail Contract 332

Priority Mail Contract 333

Priority Mail Contract 334

Priority Mail Contract 335

Priority Mail Contract 336

Priority Mail Contract 337

Priority Mail Contract 338

Priority Mail Contract 339

Priority Mail Contract 340

Priority Mail Contract 341

Priority Mail Contract 342

Priority Mail Contract 343

Priority Mail Contract 344

Priority Mail Contract 345

Priority Mail Contract 346

Priority Mail Contract 347

Priority Mail Contract 348

Priority Mail Contract 349

Priority Mail Contract 350

Priority Mail Contract 351

Priority Mail Contract 352

Priority Mail Contract 353

Priority Mail Contract 354

Priority Mail Contract 355

Priority Mail Contract 356

Priority Mail Contract 357

Priority Mail Express & Priority Mail Contract 10

Priority Mail Express & Priority Mail Contract 12

Priority Mail Express & Priority Mail Contract 13

Priority Mail Express & Priority Mail Contract 17

Priority Mail Express & Priority Mail Contract 18

Priority Mail Express & Priority Mail Contract 19

Priority Mail Express & Priority Mail Contract 20

Priority Mail Express & Priority Mail Contract 21

Priority Mail Express & Priority Mail Contract 22

Priority Mail Express & Priority Mail Contract 23

Priority Mail Express & Priority Mail Contract 24

Priority Mail Express & Priority Mail Contract 25

Priority Mail Express & Priority Mail Contract 27

Priority Mail Express & Priority Mail Contract 28

Priority Mail Express & Priority Mail Contract 29

Priority Mail Express & Priority Mail Contract 30

Priority Mail Express & Priority Mail Contract 31

Priority Mail Express & Priority Mail Contract 32

Priority Mail Express & Priority Mail Contract 33

Priority Mail Express & Priority Mail Contract 34

Priority Mail Express & Priority Mail Contract 35

Priority Mail Express & Priority Mail Contract 36

Priority Mail Express & Priority Mail Contract 37

Priority Mail Express & Priority Mail Contract 38

Priority Mail Express & Priority Mail Contract 39

Priority Mail Express & Priority Mail Contract 40

Priority Mail Express & Priority Mail Contract 41

Priority Mail Express & Priority Mail Contract 42

Priority Mail Express & Priority Mail Contract 43

Priority Mail Express & Priority Mail Contract 44

Priority Mail Express & Priority Mail Contract 45

Priority Mail Express & Priority Mail Contract 46

Priority Mail Express & Priority Mail Contract 47

Priority Mail Express & Priority Mail Contract 48

Priority Mail Express & Priority Mail Contract 49

Priority Mail Express & Priority Mail Contract 50

Priority Mail Express & Priority Mail Contract 51

Parcel Select & Parcel Return Service Contract 3

Parcel Select & Parcel Return Service Contract 5

Parcel Select & Parcel Return Service Contract 6

Parcel Select Contract 2

Parcel Select Contract 8

Parcel Select Contract 9

Parcel Select Contract 10

Parcel Select Contract 11

Parcel Select Contract 12

Parcel Select Contract 13

Parcel Select Contract 14

Parcel Select Contract 15

Parcel Select Contract 16

Parcel Select Contract 17

Parcel Select Contract 18

Parcel Select Contract 19

Parcel Select Contract 20

Parcel Select Contract 21

Parcel Select Contract 22

Priority Mail—Non-Published Rates

Priority Mail—Non-Published Rates 1

First-Class Package Service Contract 37

First-Class Package Service Contract 38

First-Class Package Service Contract 39

First-Class Package Service Contract 40

First-Class Package Service Contract 41

First-Class Package Service Contract 42

First-Class Package Service Contract 43

First-Class Package Service Contract 44

First-Class Package Service Contract 45

First-Class Package Service Contract 46

First-Class Package Service Contract 47

First-Class Package Service Contract 48

First-Class Package Service Contract 49

First-Class Package Service Contract 50

First-Class Package Service Contract 51

First-Class Package Service Contract 52

First-Class Package Service Contract 53

First-Class Package Service Contract 54

First-Class Package Service Contract 55

First-Class Package Service Contract 57

First-Class Package Service Contract 59

First-Class Package Service Contract 60

First-Class Package Service Contract 61

First-Class Package Service Contract 62

First-Class Package Service Contract 63

First-Class Package Service Contract 64

First-Class Package Service Contract 65

First-Class Package Service Contract 66

First-Class Package Service Contract 67

First-Class Package Service Contract 68

First-Class Package Service Contract 69

First-Class Package Service Contract 70

First-Class Package Service Contract 71

First-Class Package Service Contract 72

First-Class Package Service Contract 73

First-Class Package Service Contract 74

First-Class Package Service Contract 75

First-Class Package Service Contract 76

First-Class Package Service Contract 77

First-Class Package Service Contract 78

First-Class Package Service Contract 79

First-Class Package Service Contract 80

First-Class Package Service Contract 81

Priority Mail Express, Priority Mail & First-Class Package Service Contract 5

Priority Mail Express, Priority Mail & First-Class Package Service Contract 6

Priority Mail Express, Priority Mail & First-Class Package Service Contract 7

Priority Mail Express, Priority Mail & First-Class Package Service Contract 8

Priority Mail Express, Priority Mail & First-Class Package Service Contract 9

Priority Mail Express, Priority Mail & First-Class Package Service Contract 10

Priority Mail Express, Priority Mail & First-Class Package Service Contract 11

Priority Mail Express, Priority Mail & First-Class Package Service Contract 12

Priority Mail Express, Priority Mail & First-Class Package Service Contract 13

Priority Mail Express, Priority Mail & First-Class Package Service Contract 14

Priority Mail Express, Priority Mail & First-Class Package Service Contract 15

Priority Mail Express, Priority Mail & First-Class Package Service Contract 16

Priority Mail Express, Priority Mail & First-Class Package Service Contract 17

Priority Mail Express, Priority Mail & First-Class Package Service Contract 18

Priority Mail Express, Priority Mail & First-Class Package Service Contract 19

Priority Mail Express, Priority Mail & First-Class Package Service Contract 20

Priority Mail Express, Priority Mail & First-Class Package Service Contract 21

Priority Mail Express, Priority Mail & First-Class Package Service Contract 22

Priority Mail & First-Class Package Service Contract 2

Priority Mail & First-Class Package Service Contract 4

Priority Mail & First-Class Package Service Contract 6

Priority Mail & First-Class Package Service Contract 7

Priority Mail & First-Class Package Service Contract 8

Priority Mail & First-Class Package Service Contract 9

Priority Mail & First-Class Package Service Contract 10

Priority Mail & First-Class Package Service Contract 11

Priority Mail & First-Class Package Service Contract 13

Priority Mail & First-Class Package Service Contract 15

Priority Mail & First-Class Package Service Contract 16

Priority Mail & First-Class Package Service Contract 17

Priority Mail & First-Class Package Service Contract 18

Priority Mail & First-Class Package Service Contract 19

Priority Mail & First-Class Package Service Contract 20

Priority Mail & First-Class Package Service Contract 21

Priority Mail & First-Class Package Service Contract 22

Priority Mail & First-Class Package Service Contract 23

Priority Mail & First-Class Package Service Contract 24

Priority Mail & First-Class Package Service Contract 25

Priority Mail & First-Class Package Service Contract 26

Priority Mail & First-Class Package Service Contract 27

Priority Mail & First-Class Package Service Contract 28

Priority Mail & First-Class Package Service Contract 29

Priority Mail & First-Class Package Service Contract 30

Priority Mail & First-Class Package Service Contract 31

Priority Mail & First-Class Package Service Contract 32

Priority Mail & First-Class Package Service Contract 33

Priority Mail & First-Class Package Service Contract 34

Priority Mail & First-Class Package Service Contract 35

Priority Mail & First-Class Package Service Contract 36

Priority Mail & First-Class Package Service Contract 37

Priority Mail & First-Class Package Service Contract 38

Priority Mail & First-Class Package Service Contract 39

Priority Mail & First-Class Package Service Contract 40

Priority Mail & First-Class Package Service Contract 41

Priority Mail & First-Class Package Service Contract 42

Priority Mail & First-Class Package Service Contract 43

Priority Mail & First-Class Package Service Contract 44

Priority Mail & First-Class Package Service Contract 45

Priority Mail & First-Class Package Service Contract 46

Priority Mail & First-Class Package Service Contract 47

Priority Mail & First-Class Package Service Contract 48

Priority Mail & First-Class Package Service Contract 49

Priority Mail & First-Class Package Service Contract 50

Priority Mail & First-Class Package Service Contract 51

Priority Mail & First-Class Package Service Contract 52

Priority Mail & First-Class Package Service Contract 53

Priority Mail & First-Class Package Service Contract 54

Priority Mail & First-Class Package Service Contract 55

Priority Mail & First-Class Package Service Contract 56

Priority Mail & First-Class Package Service Contract 57

Priority Mail & Parcel Select Contract 1

Priority Mail & Parcel Select Contract 2

Outbound International *

Global Expedited Package Services (GEPS) Contracts

GEPS 3

GEPS 5

GEPS 6

GEPS 7

GEPS 8

Global Bulk Economy (GBE) Contracts

Global Plus Contracts

Global Plus 1C

Global Plus 1D

Global Plus 2C

Global Plus 3

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Global Expedited Package Services (GEPS)—Non-Published Rates 11

Global Expedited Package Services (GEPS)—Non-Published Rates 12

Priority Mail International Regional Rate Boxes—Non-Published Rates

Outbound Competitive International Merchandise Return Service Agreement with Royal Mail Group, Ltd.

Priority Mail International Regional Rate Boxes Contracts Priority Mail International Regional Rate Boxes Contracts 1

Competitive International Merchandise Return Service Agreements with Foreign Postal Operators

Competitive International Merchandise Return Service Agreements with Foreign Postal Operators 1

Competitive International Merchandise Return Service Agreements with Foreign Postal Operators 2

Alternative Delivery Provider (ADP) Contracts ADP 1

Inbound International *

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators

Inbound Competitive Multi-Service Agreements with Foreign Postal

Operators 1

Special Services *

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services *

Advertising

Licensing of Intellectual Property other than Officially Licensed Retail Products (OLRP)

Mail Service Promotion

Officially Licensed Retail Products (OLRP)

Passport Photo Service

Photocopying Service

Rental, Leasing, Licensing or other Non-Sale Disposition of Tangible Property Training Facilities and Related Services

USPS Electronic Postmark (EPM) Program

Market Tests *

Customized Delivery

Global eCommerce Marketplace (GeM)

Stacy L. Ruble,
Secretary.

[FR Doc. 2017-22645 Filed 10-18-17; 8:45 am]

BILLING CODE 7710-FW-P